DEPARTMENT OF AGRICULTURE

Animal and Plant Health Inspection Service

[Docket No. APHIS-2009-0045]

Notice of Request for Approval of an Information Collection; National Animal Health Monitoring System; Poultry 2010 Study

AGENCY: Animal and Plant Health Inspection Service, USDA.

ACTION: New information collection; comment request.

SUMMARY: In accordance with the Paperwork Reduction Act of 1995, this notice announces the Animal and Plant Health Inspection Service's intention to initiate an information collection to support the National Animal Health Monitoring System; Poultry 2010 Study.

DATES: We will consider all comments that we receive on or before August 24, 2009.

ADDRESSES: You may submit comments by either of the following methods:

• Federal eRulemaking Portal: Go to http://www.regulations.gov/fdmspublic/component/main?main=DocketDetail&d=APHIS-2009-0045 to submit or view comments and to view supporting and related materials available electronically.

• Postal Mail/Commercial Delivery: Please send two copies of your comment to Docket No. APHIS-2009-0045, Regulatory Analysis and Development, PPD, APHIS, Station 3A-03.8, 4700 River Road, Unit 118, Riverdale, MD 20737-1238. Please state that your comment refers to Docket No. APHIS-2009-0045.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Poultry 2010 Study, contact Ms. Sandra Warnken, Management and Program Analyst, Centers for Epidemiology and Animal Health, VS, APHIS, 2150 Centre Avenue, Building B MS 2E3, Fort Collins, CO 80526; (970) 494-7193. For copies of more detailed information on the information collection, contact Mrs. Celeste Sickles, APHIS' Information Collection Coordinator, at (301) 851-2908.

SUPPLEMENTARY INFORMATION: Title: National Animal Health Monitoring System; Poultry 2010 Study.

OMB Number: 0579-xxxx.

Type of Request: Approval of a new information collection.

Abstract: Under the Animal Health Protection Act (7 U.S.C. 8301 et seq.), the Animal and Plant Health Inspection Service (APHIS) of the United States Department of Agriculture is authorized, among other things, to protect the health of our Nation's livestock and poultry populations by preventing the introduction and interstate spread of serious diseases and pests of livestock and for eradicating such diseases from the United States when feasible. In connection with this mission, the Animal and Plant Health Inspection Service (APHIS) operates the National Animal Health Monitoring System (NAHMS), which collects nationally representative, statistically valid, and scientifically sound data on the prevalence and economic importance of livestock diseases and associated risk factors.

NAHMS' national studies have evolved into a collaborative industry and government initiative to help determine the most effective means of preventing and controlling diseases of livestock, including poultry. APHIS is the only agency responsible for collecting data on poultry health. Participation in any NAHMS study is voluntary, and all data are confidential.

APHIS plans to conduct the Poultry 2010 Study as part of an ongoing series of NAHMS studies on the U.S. poultry population. The purpose of the study is to collect information through questionnaires and biologic sampling to:

• Describe the structure of commercial poultry industries, including interactions, movements, and biosecurity practices. Describe farm-level practices for chicken primary breeder and multiplier flocks. Identify critical management practices associated with exclusion of disease (such as Mycoplasma).

• Estimate the prevalence and identify risk factors associated with clostridial dermatitis (cellulitis/gangrenous dermatitis) on turkey grower farms.

• Estimate the size of the urban chicken population in four States. Describe bird health, movement, and biosecurity practices of urban chicken flocks.

The 51 companies targeted for the study account for approximately 85 percent of broiler meat, 71 percent of layers, and 76 percent of turkeys slaughtered for human consumption. The study will consist of an online company-level questionnaire; an online farm-level questionnaire regarding chicken primary breeder and multiplier flocks; and an on-farm questionnaire, including biologic sampling for turkey grower flocks, completed by either a company veterinarian or farm manager. Additionally, an APHIS employee or APHIS-designated representative will conduct a phone survey to estimate the size of the urban chicken population in California, Colorado, Florida, and New York, and make available a questionnaire addressing health and management practices to consumers purchasing chicken feed at feed and/or pet supply stores in those States.

Information from this study will be analyzed and organized into descriptive reports, and information sheets will be derived from those reports. Information sheets will be disseminated to and used by poultry producers, animal health officials, private veterinary practitioners, animal industry groups, policymakers, public health officials, multimedia, academia, and others to improve poultry productivity and competitiveness. The data will help APHIS address emerging issues and inform poultry disease spread simulation models.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.050099 hours per response.

Respondents: U.S. poultry producers, urban chicken owners, consumers who purchase chicken feed, company veterinarians, farm managers, APHIS-designated representatives.

Estimated annual number of respondents: 52,651.

Estimated annual number of responses per respondent: 1.04178.

Estimated annual number of responses: 54,851.

Estimated total annual burden on respondents: 2,748 hours. (Due to averaging, the total annual burden hours may not equal the product of the annual number of responses multiplied by the reporting burden per response.)

All responses to this notice will be summarized and included in the request for OMB approval. All comments will also become a matter of public record.

Done in Washington, DC, this 17th day of June 2009.
Kevin Shea,
Acting Administrator, Animal and Plant Health Inspection Service.

[FR Doc. E9-14714 Filed 6-22-09; 8:45 am]

BILLING CODE 3410-34-P